FEDERAL COMMUNICATIONS COMMISSION

[FR ID 315452]

Sunshine Act; Open Commission Meeting Tuesday, September 30, 2025

September 23, 2025.

The Federal Communications Commission will hold an Open Meeting on the subjects listed below on Tuesday, September 30, 2025, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Wireline Competition | Title: Accelerating Wireline Infrastructure Buildout (WC Docket No. 25-253).
|  | Summary: The Commission will consider a Notice of Inquiry that would examine whether state and local statutes, regulations, and legal requirements have an unlawful prohibitive effect on the provision of wireline telecommunications services, particularly through the imposition of excessive delays and fees that impede infrastructure deployments and disincentivize investments in them.
2 | Wireless Telecommunications | Title: Freeing Wireless Infrastructure from Unlawful Regulatory Burdens (WT Docket No. 25-276).
|  | Summary: The Commission will consider a Notice of Proposed Rulemaking that advances its Build America Agenda by seeking comment on reforms that would free towers and other wireless infrastructure from unlawful regulatory burdens imposed at the state and local level.
3 | Wireless Telecommunications | Title: Phone Jamming Solutions in Non-Federal Correctional Facilities (GN Docket No. 13-111).
|  | Summary: The Commission will consider a Third Further Notice of Proposed Rulemaking seeking comment on removing regulatory barriers to deployment and viability of existing and developing technologies that combat contraband wireless device use in correctional facilities.
4 | Media | Title: Modernizing Broadcast Ownership Rules (MB Docket No. 22-459).
|  | Summary: The Commission will consider a Notice of Proposed Rulemaking that would advance the Commission's quadrennial regulatory review of its broadcast ownership rules and seek public comment on whether, given the current state of the media marketplace, it should retain, modify, or eliminate any of these rules.
5 | Wireline Competition | Title: Deleting Obsolete and Duplicative Wireline Rules (GN Docket No. 25-133).
|  | Summary: The Commission will consider as part of the In re: Delete, Delete, Delete proceeding a Direct Final Rule that would move to delete nearly 400 primarily wireline-related rules and requirements that govern obsolete technology, are duplicative, and are no longer used in practice. These rules pertain to a wide variety of now-defunct topics including regulatory reporting requirements, distinctions between wireline carriers that are no longer applied, technology that has been eclipsed, and dates pertaining to pricing, universal service, pilot programs, and equipment requirements that have long ago passed.
6 | Wireline Competition | Title: Modernizing the E-Rate Program for Schools and Libraries (WC Docket No. 13-184).
|  | Summary: The Commission will consider a Declaratory Ruling that would align E-Rate eligibility with section 254 of the Communications Act of 1934, as amended, and clarify that the provision of Wi-Fi, or other similar access point technologies, including the equipment needed to provide such service, on school buses is ineligible for E-Rate funding.
7 | Wireline Competition | Title: Addressing the Homework Gap through the E-Rate Program (WC Docket No. 21-31).
|  | Summary: The Commission will consider an Order on Reconsideration that grants a petition for reconsideration and finds that section 254 of the Communications Act of 1934, as amended, does not permit the funding of off-premises use of Wi-Fi hotspots and Internet services and makes them ineligible for E-Rate support.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairman may hold a news conference in which he will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2025-18926 Filed 9-26-25; 11:15 am]

BILLING CODE 6712-01-P